DEPARTMENT OF DEFENSE

Office of the Secretary

[Docket ID DoD-2022-OS-0010]

Proposed Collection; Comment Request

AGENCY: Office of the Under Secretary of Defense for Personnel and Readiness (USD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 28, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION:

Title; Associated Form; and OMB Number: Armed Forces Workplace and Equal Opportunity Survey; OMB Control Number 0704-WEOS.

Needs and Uses: Authorization for this research is found in 10 U.S.C., Sections 136, 1782, and 2358. The legislation requiring the Secretary of Defense to conduct this survey is codified in 10 U.S.C., Section 481 and the Fiscal Year 2003 National Defense Authorization Act. Specifically, the legal requirements require surveys to be conducted to solicit information on racial and ethnic issues, including issues relating to harassment and discrimination, and the climate in the armed forces for forming professional relationships among members of various racial and ethnic groups. Specifically, surveys shall be conducted to solicit information on the following:

• Indicators of positive and negative trends for professional and personal relationships among members of all racial and ethnic groups.

• The effectiveness of DoD policies designed to improve relationships among all racial and ethnic groups.

• The effectiveness of current processes for complaints on, and investigations into, racial and ethnic discrimination.

Information from the 2022 Workplace and Equal Opportunity Survey will be used by Office of the Under Secretary of Defense for Personnel and Readiness policy offices, the Military Departments, and Congress for program evaluation to assess and improve personnel policies, programs, practices, and training related to racial/ethnic relations in the military.

Affected Public: Individuals or households.

Annual Burden Hours: 180,500 hours.

Number of Respondents: 361,000.

Responses per Respondent: 1.

Annual Responses: 361,000.

Average Burden per Response: 30 minutes.

Frequency: Biennially.

Dated: January 19, 2022.
Aaron T. Siegel,
Alternate OSD Federal Register Liaison Officer, Department of Defense.

[FR Doc. 2022-01400 Filed 1-24-22; 8:45 am]

BILLING CODE 5001-06-P